DEPARTMENT OF TRANSPORTATION

Federal Aviation Administration

[Summary Notice No. PE-2002-19]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption part 11 of Title 14, Code of Federal Regulations (14 CFR), this notice contains a summary of certain petitions seeking relief from specified requirements of 14 CFR, dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before April 17, 2002.

ADDRESSES: Send comments on any petition to the Docket Management System, U.S. Department of Transportation, Room Plaza 401, 400 Seventh Street, SW., Washington, DC 20590-0001. You must identify the docket number FAA-2000-XXXX at the beginning of your comments. If you wish to receive confirmation that FAA received your comments, include a self-addressed, stamped postcard.

You may also submit comments through the Internet to http://dms.dot.gov. You may review the public docket containing the petition, any comments received, and any final disposition in person in the Dockets Office between 9:00 a.m. and 5:00 p.m., Monday through Friday, except Federal holidays. The Dockets Office (telephone 1-800-647-5527) is on the plaza level of the NASSIF Building at the Department of Transportation at the above address. Also, you may review public dockets on the Internet at http://dms.dot.gov.

FOR FURTHER INFORMATION CONTACT: Forest Rawls (202) 267-8033, Sandy Buchanan-Sumter (202) 267-7271, or Vanessa Wilkins (202) 267-8029, Office of Rulemaking (ARM—1), Federal Aviation Administration, 800 Independence Avenue, SW., Washington, DC 20591.

This notice is published pursuant to 14 CFR 11.85 and 11.91.

Issued in Washington, DC, on March 21, 2002.
Gary A. Michel,
Acting Assistant Chief Counsel for Regulations.

Petitions for Exemption

Docket No.: 29969.

Petitioner: National Agricultural Aviation Association.

Section of 14 CFR Affected: 14 CFR 91.313(e).

Description of Relief Sought:

To permit NAAA members to ferry restricted category agricultural aircraft and authorize operations over densely populated areas, on congested airways, or into busy airports where passenger transport operations are being conducted, without previously issuing a waiver or operation limitations. The exemption, if granted, would apply only to aircraft being ferried from one location to another without a dispensable load.

Dispositions of Petitions

Docket No.: FAA-2001-8613.

Petitioner: Midwest Express Airlines, Inc.

Section of 14 CFR Affected: 14 CFR 91.205(b)(12).

Description of Relief Sought/Disposition:

To permit MWEA to replace the required approved pyrotechnic signaling device on each aircraft with crewmember personal flotation devices each equipped with an approved survivor locator light.

Denial, 02/20/200, Exemption No. 7720

Docket No.: FAA-2000-8497.

Petitioner: America West Airlines, Inc.

Section of 14 CFR Affected: 14 CFR 91.205(b)(12).

Description of Relief Sought/Disposition:

To permit America West to operate its aircraft over water without at least one pyrotechnic signaling device aboard the aircraft.

Denial, 02/20/200, Exemption No. 7719

Docket No.: FAA-2000-8579.

Petitioner: Astral Aviation, Inc. dba Skyway Airlines.

Section of 14 CFR Affected: 14 CFR 91.205(b)(12).

Description of Relief Sought:

To permit Astral to replace the required approved pyrotechnic signaling device on each aircraft with crewmember personal flotation devices each equipped with an approved survivor locator light.

Denial, 02/20/200, Exemption No. 7721.

[FR Doc. 02-7508 Filed 3-27-02; 8:45 am]

BILLING CODE 4910-13-M